DEPARTMENT OF HEALTH AND HUMAN SERVICES

Health Resources and Services Administration

Home Visiting Program

AGENCY: Health Resources and Services Administration (HRSA), Department of Health and Human Services (HHS).

ACTION: Notice of Single-Case Deviation for a 12-month project period extension with full funding to the Home Visiting Research Network Cooperative Agreement to the Johns Hopkins University, Grant Number UD5MC24070.

SUMMARY: HRSA has issued a 12-month project period extension with full funding for the Home Visiting Research Network Cooperative Agreement (HVRN) for the current budget period to Johns Hopkins University (JHU). JHU will continue responsibility for the HVRN and receive one year of additional funding for year 4 in the amount of $299,000 for Grant Number UD5MC24070, during the budget period of 7/1/2015-6/30/2016 to support the objectives of the HVRN.

The Maternal, Infant, and Early Childhood Home Visiting Program is authorized by the Social Security Act, Title V, Part D, Section 511(h)(3) (42 U.S.C. 711(h)(3)).

The Home Visiting Research Network carries out a continuous program of research and evaluation activities in order to increase knowledge about the implementation and effectiveness of home visiting programs, with the goal of improving health, development, and family outcomes for mothers, infants, and young children.

SUPPLEMENTARY INFORMATION: Intended Recipients of the Award: The Johns Hopkins University.

Amount of the Non-Competitive Award: $299,000.

CFDA Number: 93.505.

Current Project Period: 07/01/2012-06/30/2015.

Period of Low-Cost Extension: 7/1/2015-6/30/2016.

Authority: Social Security Act, Title V, Part D, Section 511(h)(3) (42 U.S.C. 701(h)(3)).

Justification

HRSA has awarded a 12-month project period extension with full funding of the approved Federal direct cost budget authorized for the current budget period to Johns Hopkins University for the Home Visiting Research Network (HVRN) for the purpose of continuing the HVRN for an additional year.

The current HVRN recipient continues to achieve the original goals required by HRSA and an additional award year will further accelerate the project to build on its national leadership in the field of home visiting research, seamlessly continue its cultivation of new funders to support new network translational and practice-based research, and capitalize on the increasing visibility of MIECHV which engages more communities, stakeholders and investors.

Not only will this additional year allow for uninterrupted growth of the network activities, but also this additional time will also allow HRSA to better align future HVRN funding opportunity announcements with current home visiting research needs based on the outcomes of the FY 2014 performance improvement assessment and benchmark improvement needs.

FOR FURTHER INFORMATION CONTACT: David Willis, MD, FAAP, Division of Home Visiting and Early Childhood Systems, Maternal and Child Health Bureau, Health Resources and Services Administration, 5600 Fishers Lane, Room 10-86, Rockville, Maryland 20857; DWillis@hrsa.gov.

Grantee/Organization Name | Grant No. | State | FY 2014 authorized funding level | FY 2015 estimated funding level
The Johns Hopkins University | UD5MC24070 | MD | $462,069 | $299,000

Dated: August 27, 2015.
James Macrae,
Acting Administrator.

[FR Doc. 2015-21886 Filed 9-2-15; 8:45 am]

BILLING CODE 4165-15-P